DEPARTMENT OF TRANSPORTATION

Federal Highway Administration

23 CFR Parts 470, 635, and 655

[FHWA Docket No. FHWA-2020-0001]

RIN 2125-AF85

National Standards for Traffic Control Devices; the Manual on Uniform Traffic Control Devices for Streets and Highways; Revision

AGENCY: Federal Highway Administration (FHWA), U.S. Department of Transportation (DOT).

ACTION: Proposed rule; extension of comment period.

SUMMARY: FHWA is extending the comment period for a notice of proposed amendments (NPA) and request for comments, which was published on December 14, 2020 in the Federal Register. The original comment period is set to close on March 15, 2021. The extension is based on concern expressed by a number of stakeholders that, as a result of the scope and complexity of the NPA, the March 15, 2021, closing date does not provide sufficient time to review and provide comprehensive comments. The FHWA recognizes that others interested in commenting may have similar concerns and agrees that the comment period should be extended. Therefore, the closing date for comments is changed to May 14, 2021, which will provide stakeholders and others interested in commenting additional time to discuss, evaluate, and submit responses to the docket.

DATES: Comments must be received on or before May 14, 2021. Late-filed comments will be considered to the extent practicable.

ADDRESSES: To ensure that you do not duplicate your docket submissions, please submit them by only one of the following means:

• Federal eRulemaking Portal: Go to http://www.regulations.gov and follow the online instructions for submitting comments.

• Mail: Docket Management Facility, U.S. Department of Transportation, 1200 New Jersey Ave. SE, West Building Ground Floor, Room W12-140, Washington, DC 20590-0001;

• Hand Delivery: West Building Ground Floor, Room W12-140, 1200 New Jersey Ave. SE, between 9 a.m. 5 p.m., e.t., Monday through Friday, except Federal holidays. The telephone number is (202) 366-9329;

• Instructions: You must include the agency name and docket number or the Regulatory Identification Number (RIN) for the rulemaking at the beginning of your comments. All comments received will be posted without change to http://www.regulations.gov, including any personal information provided.

FOR FURTHER INFORMATION CONTACT: Mr. Kevin Sylvester, Office of Transportation Operations, (202) 366-2161, Kevin.Sylvester@dot.gov, or Mr. William Winne, Office of the Chief Counsel, (202) 366-1397, William.Winne@dot.gov, Federal Highway Administration, 1200 New Jersey Avenue SE, Washington, DC 20590.

SUPPLEMENTARY INFORMATION:

Electronic Access and Filing

This document and all comments received may be viewed online through the Federal eRulemaking portal at http://www.regulations.gov. The website is available 24 hours each day, 365 days each year. An electronic copy of this document may also be downloaded by accessing the Office of the Federal Register's home page at: https://www.federalregister.gov.

Background

The Manual on Uniform Traffic Control Devices for Streets and Highways (MUTCD) is incorporated in FHWA regulations and recognized as the national standard for traffic control devices used on all public roads. On December 14, 2020, at 85 FR 80898, FHWA published in the Federal Register an NPA proposing to revise standards, guidance, options, and supporting information relating to the traffic control devices in all parts of the MUTCD. The original comment period for the NPA closes on March 15, 2021. Stakeholders have expressed concern that this closing date does not provide sufficient time to review and provide comprehensive comments on the proposal. The FHWA recognizes that others interested in commenting may have similar concerns and agrees that the comment period should be extended by 60 days for these organizations and others to submit comprehensive comments. The closing date is changed from March 15, 2021, to May 14, 2021.

Authority: Sections 1525 and 1303 of Pub. L. 112-141, Sec. 1503 of Pub. L. 109-59, 119 Stat. 1144; 23 U.S.C. 101, 103(b)(2), 103(c), 104, 109, 112, 113, 114, 116, 119, 128, 134, 135, 217, 315 and 402(a); 31 U.S.C. 6505; 42 U.S.C. 3334, 4601 et seq.; Sec. 1041(a), Pub. L. 102-240, 105 Stat. 1914; 23 CFR 1.32; 49 CFR 1.85(a)(1).

Thomas Everett,
Executive Director, Federal Highway Administration.

[FR Doc. 2021-01440 Filed 2-1-21; 8:45 am]

BILLING CODE 4910-22-P